DEPARTMENT OF AGRICULTURE

Animal and Plant Health Inspection Service

[Docket No. APHIS-2009-0087]

Wildlife Services; Availability of an Environmental Assessment and Finding of No Significant Impact

AGENCY: Animal and Plant Health Inspection Service, USDA.

ACTION: Notice.

SUMMARY: We are advising the public that we have prepared an environmental assessment and finding of no significant impact relative to oral rabies vaccination programs in several States. The environmental assessment made available by this notice analyzes the further expansion of the oral rabies vaccination program to include the States of New Mexico and Arizona, which is necessary to effectively combat the gray fox variant of the rabies virus. The environmental assessment provides a basis for our conclusion that the expansion of the oral rabies vaccination program will not have a significant impact on the quality of the human environment. Based on its finding of no significant impact, the Animal and Plant Health Inspection Service has determined that an environmental impact statement need not be prepared.

ADDRESSES: To obtain copies of the environmental assessment and finding of no significant impact, contact Mr. Kevin Williams, Operational Support Staff, WS, APHIS, 4700 River Road Unit 87, Riverdale, MD 20737-1234; phone (301) 734-4937, fax (301) 734-5157, or email: (Kevin.E.Williams@aphis.usda.gov). The environmental assessment and finding or no significant impact are also posted on the APHIS Web site at (http://www.aphis.usda.gov/regulations/ws/ws_nepa_environmental_documents.shtml).

FOR FURTHER INFORMATION CONTACT: Dr. Dennis Slate, Rabies Program Coordinator, Wildlife Services, APHIS, 59 Chenell Drive, Suite 7, Concord, NH 03301; (603) 223-9623.

SUPPLEMENTARY INFORMATION: The Wildlife Services (WS) program in the Animal and Plant Health Inspection Service (APHIS) cooperates with Federal agencies, State and local governments, and private individuals to research and implement the best methods of managing conflicts between wildlife and human health and safety, agriculture, property, and natural resources. Wildlife-borne diseases that can affect domestic animals and humans are among the types of conflicts that APHIS-WS addresses. Wildlife is the dominant reservoir of rabies in the United States.

On November 24, 2009, we published a notice¹ in the Federal Register (74 FR 61319-61321, Docket No. APHIS-2009-0087) in which we made available, for review and comment, a proposed environmental assessment that analyzed the further expansion of the oral rabies vaccination program to include the States of New Mexico and Arizona, which is necessary to effectively combat the gray fox variant of the rabies virus. In that notice, we stated that the new environmental assessment is intended to facilitate planning and interagency coordination in the event of rabies outbreaks, help streamline program management, and clearly communicate to the public the actions involved in the oral rabies vaccination program.

¹To view the notice, environmental assessment, finding of no significant impact, and comments, go to (http://www.regulations.gov/fdmspublic/component/main?main=DocketDetail&d=APHIS-2009-0087).

We solicited comments on the proposed environmental assessment for 30 days ending on December 24, 2009. We received 102 comments by that date. The comments, which were almost entirely supportive of the vaccination program, are addressed in an attachment to the finding of no significant impact.

In this document, we are advising the public of our finding of no significant impact regarding the further expansion of the oral rabies vaccination program to include the States of New Mexico and Arizona. The finding, which is based on the environmental assessment, reflects our determination that this expansion of the oral rabies vaccination program will not have a significant impact on the quality of the human environment.

The environmental assessment and finding of no significant impact may be viewed on the Regulations.gov Web site (see footnote 1). Copies are also available from the individual listed under ADDRESSES and may be viewed in our reading room at USDA, room 1141, South Building, 14th Street and Independence Avenue SW., Washington, DC, between 8 a.m. and 4:30 p.m., Monday through Friday, except holidays. Persons wishing to inspect copies are requested to call ahead on (202) 690-2817 to facilitate entry into the reading room. In addition, copies may be obtained by calling or writing to the individual listed under ADDRESSES.

The environmental assessment and finding of no significant impact have been prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS’ NEPA Implementing Procedures (7 CFR part 372).

Done in Washington, DC, this 12th day of January 2010.

Kevin Shea
Acting Administrator, Animal and Plant Health Inspection Service.

[FR Doc. 2010-806 Filed 1-14-10; 8:45 am]

BILLING CODE 3410-34-S